SURFACE TRANSPORTATION BOARD

[Docket No. FD 36321]

Alabama Export Railroad, Inc.—Lease and Operation Exemption—Illinois Central Railroad Company

Alabama Export Railroad, Inc. (ALE), a noncarrier, has filed a verified notice of exemption under 49 CFR 1150.31 to lease and operate approximately 12.1 miles of railroad line in downtown Mobile, Ala., owned by the Illinois Central Railroad Company (IC). The rail line extends between Belt Junction at milepost 6.6 and the State Docks at milepost 0.0 on IC's Beaumont Subdivision, and between Belt Junction at milepost 6.6 and Frascati Junction at milepost 1.1 on IC's Frascati Lead (the Line).

This transaction is related to a concurrently filed verified notice of exemption in Mississippi Export Railroad—Continuance in Control Exemption—Alabama Export Railroad, Docket No. FD 36320, in which Mississippi Export Railroad Company (MSE) seeks to continue in control of ALE upon ALE's becoming a Class III rail carrier.

ALE states that it and IC are negotiating track lease and switching agreements under which IC, in addition to continuing to own the Line, would also be the Line's lessor, and ALE would be the lessee and operator.

According to ALE, the proposed agreements between ALE and IC do not contain an interchange commitment.

ALE certifies that its projected annual revenues as a result of this transaction will not result in the creation of a Class II or Class I rail carrier and will not exceed $5 million.

The earliest this transaction may be consummated is September 15, 2019.¹

¹ The verified notices in Docket Nos. FD 36320 and FD 36321 were initially submitted on August 12, 2019. On August 16, 2019, MSE filed a supplement in Docket No. FD 36320 certifying that MSE and ALE are the only two railroads in the corporate family. In light of that supplement, August 16, 2019, is deemed the filing date of the verified notice for continuance in control in Docket No. FD 36320, and that exemption's effective date is September 15, 2019. Because this lease and operation exemption requires the concurrent authority for MSE to continue in control of ALE, the effective date of this exemption likewise will be September 15, 2019.

If the verified notice contains false or misleading information, the exemption is void ab initio. Petitions to revoke the exemption under 49 U.S.C. 10502(d) may be filed at any time. The filing of a petition to revoke will not automatically stay the effectiveness of the exemption. Petitions for stay must be filed no later than September 6, 2019 (at least seven days before the exemption becomes effective).

All pleadings, referring to Docket No. FD 36321, must be filed with the Surface Transportation Board either via e-filing or in writing addressed to 395 E Street SW, Washington, DC 20423-0001. In addition, a copy of each pleading must be served on ALE's representatives: Eric M. Hocky, Clark Hill, PLC, One Commerce Square, 2005 Market Street, Suite 1000, Philadelphia, PA 19103, and Sloane S. Carlough, Clark Hill PLC, 1001 Pennsylvania Avenue NW, Suite 1300 South, Washington, DC 20004.

According to ALE, this action is excluded from environmental review under 49 CFR 1105.6(c) and from historic preservation reporting requirements under 49 CFR 1105.8(b).

Board decisions and notices are available at www.stb.gov.

Decided: August 27, 2019.
By the Board, Allison C. Davis, Director, Office of Proceedings.
Jeffrey Herzig,
Clearance Clerk.

[FR Doc. 2019-18808 Filed 8-29-19; 8:45 am]

BILLING CODE 4915-01-P